CONSUMER PRODUCT SAFETY COMMISSION

[Docket No. CPSC-2018-0004]

Notice of Availability: Guidance on the Application of Human Factors to Consumer Products

AGENCY: U.S. Consumer Product Safety Commission.

ACTION: Notice of availability.

SUMMARY: The Consumer Product Safety Commission (Commission, or CPSC) is announcing the availability of a draft document titled, “Guidance on the Application of Human Factors to Consumer Products.”

DATES: Submit comments by May 14, 2018.

ADDRESSES: You may submit comments, identified by Docket No. CPSC-2018-0004, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2018-0004, into the “Search” box, and follow the prompts.

FOR FURTHER INFORMATION CONTACT: Rana Balci-Sinha, Director, Division of Human Factors, U.S. Consumer Product Safety Commission, 5 Research Place, Rockville, MD 20850-3213; email: RBalciSinha@cpsc.gov.

SUPPLEMENTARY INFORMATION: The U.S. Consumer Product Safety Commission (CPSC) staff ¹ and Health Canada's Consumer Product Safety Directorate (Health Canada) have developed the draft guidance document, “Guidance on the Application of Human Factors to Consumer Products,” to help consumer product manufacturers integrate human factors principles into the product development process. The draft guidance document provides recommendations to improve the usability and reduce the use-related hazards associated with consumer products. Many product-related injuries can be prevented by better user-centered design. Providing the consumer product industry with general human factors principles and guidance, and how these principles can be applied to their products, can help reduce product-related incidents and reduce costly compliance and enforcement actions.

¹ This document was prepared under the direction of CPSC staff and has not been reviewed and does not necessarily reflect the views of the Commission.

The draft guidance document is intended for industry stakeholders, designers, and manufacturers in the consumer product sector. This draft guidance can be tailored to meet the needs of a particular product, recognizing that not all practices apply to all products.

The draft guidance document is not a rule and does not establish legally enforceable responsibilities.

The draft guidance document is available on the Commission's website at: https://www.cpsc.gov/s3fs-public/HF-Standard-Practice-Draft-12Feb2018.pdf?CGk4Zs9GabjCnZ5RXQuSlr2toQ1aLPhJ and from the Commission's Office of the Secretary at the location listed in the ADDRESSES section of this notice.

The Commission invites comment on the draft document, “Guidance on the Application of Human Factors to Consumer Products.” Comments should be submitted by May 14, 2018. Information on how to submit comments can be found in the ADDRESSES section of this notice.

Alberta E. Mills,
Secretary, Consumer Product Safety Commission.

[FR Doc. 2018-05208 Filed 3-14-18; 8:45 am]

BILLING CODE 6355-01-P